DEPARTMENT OF COMMERCE

International Trade Administration

[A-570-909]

Certain Steel Nails From the People's Republic of China: Partial Rescission of Antidumping Duty Administrative Review; 2019-2020

AGENCY: Enforcement and Compliance, International Trade Administration, Department of Commerce.

SUMMARY: The Department of Commerce (Commerce) is rescinding the administrative review, in part, of the antidumping duty order on certain steel nails (nails) from the People's Republic of China (China) for the period August 1, 2019, through July 31, 2020.

DATES: Applicable January 26, 2021.

FOR FURTHER INFORMATION CONTACT: Joshua Simonidis, AD/CVD Operations, Office VIII, Enforcement and Compliance, International Trade Administration, Department of Commerce, 1401 Constitution Avenue NW, Washington, DC 20230; telephone: (202) 482-0608.

SUPPLEMENTARY INFORMATION:

Background

On October 6, 2020, based on timely requests for review for 448 companies by Mid Continent Steel & Wire, Inc. (the petitioner); ¹ two companies by Qingdao D&L Group Ltd. (Qingdao D&L) and Tianjin Zhonglian Metals Ware Co., Ltd. (Tianjin Zhonglian); ² and two companies by Shanghai Yueda Nails Industry Co., Ltd., a.k.a. Shanghai Yueda Nails Co. (Shanghai Yueda) and Tianjin Jinchi Metal Products Co., Ltd (Tianjin Jinchi),³ Commerce published in the Federal Register a notice of initiation of an administrative review of the antidumping duty order on nails from China covering the period August 1, 2019 through July 31, 2020.⁴

¹ See Petitioner's Letter, “Certain Steel Nails from China—Request for Administrative Review,” dated August 31, 2020.

² See Qingdao D&L and Tianjin Zhonglian's Letter, “Certain Steel Nails from the People's Republic of China: Requests for Administrative Review,” dated August 31, 2020.

³ See Shanghai Yueda and Tianjin Jinchi's Letter, “Request for Administrative Review of the Antidumping Duty Order on Certain Steel Nails from the People's Republic of China, A-570-909 (POR 8/1/19-7/31/20),” dated August 31, 2020.

⁴ See Initiation of Antidumping and Countervailing Duty Administrative Reviews, 85 FR 54983 (October 6, 2020) (Initiation Notice).

On October 20, 2020, the petitioner withdrew its request for administrative review on Oriental Cherry Hardware Group., Ltd., Youngwoo Fasteners Co., Ltd., China Staple Enterprise Co., Ltd., Faithful Engineering Products Co., Ltd., and Promising Way (Hong Kong) Ltd.⁵ No other party requested a review of these companies.

⁵ See Petitioner's Letter “Certain Steel Nails from China—Withdrawal of Request for Administrative Review,” dated October 20, 2020.

Partial Rescission of Review

Pursuant to 19 CFR 351.213(d)(1), Commerce will rescind an administrative review, in whole or in part, if the party that requested the review withdraws its request within 90 days of the date of publication of the notice of initiation of the requested review. Because all requests for an administrative review of Oriental Cherry Hardware Group., Ltd., Youngwoo Fasteners Co., Ltd., China Staple Enterprise Co., Ltd., Faithful Engineering Products Co., Ltd., and Promising Way (Hong Kong) Ltd. were withdrawn within 90 days of the date of publication of the Initiation Notice, and no other interested party requested a review of these companies, Commerce is rescinding this review with respect to these companies in accordance with 19 CFR 351.213(d)(1). The administrative review remains active with respect to all other companies for which a review was initiated.

Assessment

Commerce will instruct U.S. Customs and Border Protection (CBP) to assess antidumping duties on all appropriate entries at a rate equal to the cash deposit of estimated antidumping duties required at the time of entry, or withdrawal from warehouse, for consumption, during the period August 1, 2019 through July 31, 2020, in accordance with 19 CFR 351.212(c)(1)(i). Commerce intends to issue assessment instructions to CBP no earlier than 35 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: January 21, 2021.
James Maeder,
Deputy Assistant Secretary for Antidumping and Countervailing Duty Operations.

[FR Doc. 2021-01675 Filed 1-25-21; 8:45 am]

BILLING CODE 3510-DS-P